DEPARTMENT OF ENERGY

Federal Energy Regulatory Commission

[Project No. 6440-010]

Lakeport Hydroelectric One, LLC and New Hampshire Department of Environmental Services; Notice of Reasonable Period of Time for Water Quality Certification Application

On March 5, 2024, Lakeport Hydroelectric One, LLC (Lakeport) and New Hampshire Department of Environmental Services (New Hampshire DES) (collectively, co-applicants) filed with the Federal Energy Regulatory Commission (Commission) a letter received from the New Hampshire DES—Watershed Management Bureau verifying receipt of a complete request for a Clean Water Act section 401(a)(1) water quality certification from the co-applicants, in conjunction with the above captioned project, on March 4, 2024. Pursuant to section 4.34(b)(5) of the Commission's regulations,¹ we hereby notify the New Hampshire DES—Watershed Management Bureau of the following:

¹ 18 CFR [4.34(b)(5)/5.23(b)/153.4/157.22].

Date of Receipt of the Certification Request: March 4, 2024.

Reasonable Period of Time to Act on the Certification Request: One year, March 4, 2025.

If the New Hampshire DES—Watershed Management Bureau fails or refuses to act on the water quality certification request on or before the above date, then the certifying authority is deemed waived pursuant to section 401(a)(1) of the Clean Water Act, 33 U.S.C. 1341(a)(1).

Dated: March 15, 2024.
Debbie-Anne A. Reese,
Acting Secretary.

[FR Doc. 2024-06036 Filed 3-20-24; 8:45 am]

BILLING CODE 6717-01-P